DEPARTMENT OF THE TREASURY

Internal Revenue Service

Quarterly Publication of Individuals Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending March 31, 2023. For purposes of this listing, long-term residents, as defined in section 877(e)(2), are treated as if they were citizens of the United States who lost citizenship.

Last name | First name | Middle name/initials
ABE | MICHIO
ABERCROMBIE | STUART | C.
ABHISHEK | FNU-FIRST NAME UNKNOWN
ABRAMOVICH | GIL
ABRESCH | RONALD | WALTER.
ABRESCH | URSULA | IRENE.
ABUD-DAWOOD | SULIMAN | ABDULRAZAK.
ACEITUNO | FELIPE | EDUARDO.
ADAMS | SETH | ERIC.
AKASHI | RIE
ALIAS | TUNKU | ALINA BINTI RAJA MUHD.
ALIREZA | PATRICIA | BEATRIZ LEBRE.
ALON | DANIEL | SOLOMONOVICH.
ALSTER | SHAHAR
ALTMANN | THOMAS | LEE.
AMBEROSE | JONAH | ELAN.
AMERDING | PHILIP | E.
ANDROUTSOS | MICHAIL
ANNANDALE | MORNAY
ANSOT | LYNN | M.
AO | HAI
ASHOOR | NADER
AYLWARD | KATHERINE | RENEE.
BAARS | CORNELIS | T.
BALCIUNAITE | EGLE
BALISKY | LYNDON | J.
BALLE-PEDERSEN | MICHAEL
BALLE-PEDERSEN | TOVE
BARAT | PHILIP
BARBIER | MARCO
BARKMAN | STEPHEN | KYLE.
BARRY | MAUREEN | THERESA.
BARTHOLDY | BORIS | ALEXANDER.
BASHINSKI | JOHN | ROBERT.
BATKE | LINDSAY | ANNE MARIE.
BAUR | LAURENCE | CARINE LYNDA.
BAXTER | DONALD | ALEC.
BELIARD | ANNE | MARIE.
BEMELMANS | JADE
BERMAN | ASHLEIGH | FIONA.
BERMUDEZ | MARCUS | ALFREDO.
BEZUIDENHOUT | KRISTIAN | HARALD.
BILGIN-FREIERT | ARZU
BLACK | PETER | NEWMAN.
BODNAR | SALLYJANE | EVANS.
BOUTIN | HAILEY | CHRISTINE.
BOWERS | LESLIRAE | JEANNE.
BRACKEN | SALLY | ANN.
BRADLEY | ALISTAIR | DAVID.
BRADLEY | ANDREA | MARIE.
BRADLEY | ALISON | LYNN.
BRAUX | NANCY | LEE.
BRAZZONI | LAURIE | ANN.
BREWER | JACK | RILEY.
BREWER | DARBY | JAY.
BROWN | DUANE | KIRBY.
BROZZI-KIANDOST | DANIELLE | CORINNE.
BURCH | BARRETT
BUTCHER | RAYMOND | GERALD.
CANTOR | HEATHER | DAWN.
CARUANA | SANTINA
CAVANNA | MARTIN | STEPHEN.
CHAPMAN | DAVID | FRANCIS.
CHARLTON | LOUISE | MARY.
CHARRIAUD | ISABELLE | FRANCOISE.
CHIARUCCI | ANDREA
CHO | MINJUNG
CHONG | EUGENE | NICHOLAS.
CHU | YI
CHUAH | BRYAN | WEI JEN.
CHUNG | MOON | JUNG.
CLEARWATER | PRUDENCE | SEQUOIA.
CLINE | KIYOE
CLIPSHAM | ELIZABETH | A.
CODERRE | KARRIE | DEANNE.
COHEN | MARY | LOUISE.
COLBORN | JUDY | MARIE.
COMITOS | CYNTHIA | ANN.
CONLIN | CATHERINE | ELLEN.
CONNERY | JASON | JOSEPH.
CORTI | BARBARA
CRAIG | CECIL | ROBERT.
CRAWFORD | JERRY | LEE.
CREED | ANTHONY | LIONEL.
CSUZI | KRISZTIAN
DANIELS | NICHOLAS | RYAN.
DAWSON | ANNE | MARGARET.
DAY | MATTHEW | JOHN.
DE DORLODOT | CHARLES-EMMANUEL | E.
DE GUERRE | JULIA | ANN.
DEL GIUDICE | PAUL | THOMAS.
DENG | YUQING
DI MAIO | JESSICA
DICK | ALAYNE | KATHERINE.
DICK | KAREN | GATES.
DONOVAN | KEITH | DUANE.
DOWELL | BEATRICE | ELIZABETH.
DRIFTMIER | PETER | ALLEN.
DULEK | YFKE | MARIE.
DUNNE | MARCELLA | CLARE.
DUTCHESHEN | CAROLE | LOUISE.
DUYSENS | FRANK | ANTONIE.
DWYER | CHRISTOPHER | J.
EMCKE | MATTHIAS | J.
EPELBAUM IBERKLEID | IRIT | IONA.
ERMENIDIS | ILIYA
EUGSTER | KARIN
FARREN | ANNE | M.
FARREN | KEVIN | A.
FEBBRARI | RICCARDO
FIFE | WILLIAM | SHANNAN.
FINNIS | JOHN | MITCHELL.
FIRTH | JONATHAN | HOWARD.
FISHER | SCOTT | C.
FORREST | REID | W.
FRAYNE | MICHAEL
FREEMAN | INES | SUSAN.
FRENZEL | GABRIELE
GARLAND | LESLIE | ALLISON.
GARRETT | SHARON | JAYNE.
GAUVIN | DAVID | DAVID.
GENTLEMAN | MICHAEL | ANTHONY.
GIARD | HANAE | NARADATE.
GLIEMER | MARK
GLOOR | SEVERIN | JONAS.
GOEBEL (ENZ-MORRISON) | MARCIA | DEE.
GOKA | SEYNA | ESI NGOZI.
GOLDING | JAMES | ALEXANDER.
GOMEZ | LUCRECIA | REGINA CONCEPCION.
GOMMERS | ROBIN | MARINUS.
GONZALEZ | SUSANA
GOODSON | FIONA | L.
GRAHAM | LAWRENCE | GORDON.
HAGEMAN | HANS | ERIK.
HAJDUK | JAN | OLAV JONATHAN MARTIN.
HAMPSHIRE | HEIDI | JANE.
HARDING | DOMITILLA | EDITH MARY VIRGINIA.
HARDING | SANDRA | ANNE.
HARGIS | MARCUS | PAUL.
HARTLEY | URSULA | SARAH.
HASKINS | CRAIG | ROBERT.
HATORI | YURILO
HAVLAS | MELINDA | SUE.
HE | RUIPING
HOCHSTRASSER | THOMAS | MICHAEL.
HOEN | MATTHEW | RANDOLPH.
HOGLUND | ERIK | MAGNUS.
HOLLAND | SARAH | LOUISE.
HONG | SONNY | S.
HORSBURGH | ALISON | MARGARET.
HOSONO | MITSUNORI
HOWIE | MICHELE | MARIE.
HOYNE | THOMAS | PATRICK.
HUANG | CHENG-YEN
HUEBNER | BENEDIKT | PETER MARIA.
HUNG | MEI | FEN.
HURLOCK IV | EDWARD | CLIFTON.
HUSHION | DANIEL | SHANNON.
HUSHION | SHANE | DANIEL.
HUSHION | THERESA | DIANE.
HUTCHINSON | MICHAEL | JOHN.
HYODO | HIROSUKE
ICHINOSE | MAYUMI
ILLI | JEAN | JACQUES.
IRIE | AKIRA
ISHIDA | YOSHIKO
ISHII | MARI
IZUMO | KAZUKO
JAEGER | SIMON | ALEXANDER.
JAFFE | DANIEL | ELAN.
JAHRIG | HEATHER | JEAN.
JAKSIC | ALEKSANDAR
JAKSIC | TAMARA
JASCHKE | MICHAEL | S.
JETZER CORTI | JEAN | NOEL.
JINDAL | SAMEER
JOHNSON | MEAGHAN | HEATHER.
JONES | HELEN | SANDRA.
JOSLOVE | LAURENCE | MICHELE.
JUNGNELIUS | ANNETTE | GUNILLA.
KABUTO | YASUTAKA
KAMEOKA | AMY
KAMEOKA | ERIKA
KAMEOKA | HITOMI
KARTASOVA | ANTONINA | ANDREEVNA.
KEARNEY | IDE | MARIA.
KELLY | DONALD | CHARLES.
KENNEDY | DOUGLAS | JAMES.
KENNEDY | JANE | SYLVIA.
KERI | JONAH | M.
KETTLE | REBECCA | MARIE.
KETTLE | REAGAN | CATHERINE-MAY.
KIM | SEEUN
KIM | YUN | HEE.
KIRK | NEIL | WALLACE.
KITAMURA | ATSUSHI
KITAMURA | KEIKO
KLARENBACH | MEGAN | BONNIE.
KLEFFMAN | JOHN | ROBERT.
KNOOP | ISABELLA
KNOOP | LETICIA
KNOOP | UWE
KOEDYK | DAVID | JAMES.
KOEN | ROBERT | JOHN.
KOETTING | ALEXIS | THERESA MARIE.
KOJIMA | YUKIKO
KORA | INEKO
KOREY | ANDREW | GEORGE.
KOSHIRO | SEIKO
KOSTYTSKA | MARIA | MYKHAILIVNA.
KOTWAL | BHARATI
KOYAMA | ELLIE
KRAMER | ALBERT | T.
KRAPIVAN | YURY | YURYEVICH.
KRUSEMEYER | JOCELYN | KAREN.
KUNKEL | NIKLAS
KUTSCHER | DANIEL
LAAKSO | ARTO | OLAVI.
LADD | TOM
LALONDE | SERGE | ROBERT.
LAM | RAYMOND
LANDELAAR | ALEXANDER | DAVID.
LAURICELLA | ISABELLE | LUCETTE.
LAY | MARIA | INES CUNHA.
LAY | PHILIP | FREDERICK.
LEACH | THOMAS | EDWARD.
LEARDINI | LORETTA
LEE | ANDREA | H.
LEE | ROBERT | WAIWANG.
LEE | KANGHYUP
LEE | YEON | SUE.
LEE | ROBERT | GEORGE.
LEENDERS | MATTHEUS | J.
LELIEVRE | SOPHIE | ANDREE JEANNE.
LEMONDE | PATRICE | R.
LENTINI | CLAUDIO
LEONOV | VLADIMIR
LEUMANN | FRANZISKA
LEVINE | DAVIS | ALEXANDER.
LEWTON BRAIN | PETER | RALPH.
LEYSNER | JAN | D.
LI | LORI
LI | ASHWICK | YUK-TUNG.
LI | JENNIFER | J F.
LI | SHUXIN
LIEGEL | MICHAEL
LIGTHART | ELISABETH | MARIA.
LIN | YUANQING
LIN | ANN | TING YU.
LINTERN | GAVAN | THOMAS.
LIOY | MICHELE | LOUISETTE.
LO | MEI | HUNG.
LOMBARDI | BRUNA | P.
LOOSLI | TAMARA | R.
LOWRY | CHRISTINA | DIANE.
LU | JIE
LUCCISANO | GUILLAUME
LUTSCH | NIKOLAUS | FRANZ.
MA | CHAO
MACDONALD | CAROLE | H.
MACLAREN | JULIAN | ROSCOE.
MACLELLAN | DEBRA | JEAN.
MACMILLAN | PATRICIA | L.
MACMILLAN | JEFFREY
MACRAE | DONALD | CORBETT.
MALAGUTI | LEARCO
MANN | JACLYN | L.
MANN | JACLYN | LEE.
MANSION | TOM | C.
MANSION | BENOIT | L.
MANSURI LAZEZARI | KAMRAN
MANTHA | FREDERIC
MARLATT | KAREN
MARQUIS | LEV | ABRAHAM.
MARTI | FELIX | ANDREAS.
MARTIN | MARGARET | JENIFER.
MARTIN | CLAIRE | MADELAINE.
MARUYAMA | HIROSHI
MASEK | TIMOTHY | KENNETH.
MASON | LARA | BARBARA.
MCCABE | URSULA | ELIZABETH.
MCELWAIN | LESTER | CORLEY.
MCFADYEN | JENNIFER | L.
MCFARLANE | ELIZABETH | THOMSON.
MCKAY | CAMERON | ANDREW.
MCLAUGHLIN | DANIELLE | SUSAN.
MCLEOD | KATE | BETH.
MCMAHON | LAYTON | RYAN.
MCONEGAL | CLAIRE | ELIZABETH.
MCONEGAL | NIALL | TALBOT.
MCQUIN | DEBRA | J KOHN.
MELANSON | JULIE | MICHELLE.
MELVIN | DENISE | ROSAIRE.
MENGEL | BENEDICTE
MENGEL | CHRISTIAN | V.
MEROZ | CAROLINE | LEA.
MEYER | CHERYL | ANN.
MILLAR | SANDRA | E.
MILLER-JOBSON | KATHLEEN
MILNE | EDWARD | LAWRENCE.
MISEUR | DANIEL
MITTON | ROBERT | LLOYD.
MIYASHITA | MUTSUKO
MOATE | PETER | JULIAN.
MOCK | BART | CHRISTIAAN.
MONTANO | TERESA | ANN.
MOREL | WILLIAM | PAUL.
MORIKAWA | JULIE | GRACE.
MOSELEY | ANDREW | JOHN.
MOSELEY | CHERYL | JOY.
MOYLE | VIVIENNE | ANN.
MUMA | KATHERINE | ELIZABETH.
MUYSHONDT DE SOLA | ROGELIO | JOSE ORLANDO.
NADIR | SERHAN | SELIM.
NAGALLO | JAIME | MARQUEZ.
NAIR | ROOPA
NASSER | JAIME | EZRA.
NASTASI | SALVATORE | ROMEO.
NASTASI PALACIOS | LAURE | SOPHIE.
NEGRE | HELENE | MARIE.
NEGRE | OLIVIER | JACQUES.
NELSON | RUTH | SHIRLEY.
NESSETH | WENDY | J H.
NEWSOME | MATTHEW | DAVID.
NIKLAUS | ARLENE | IONE.
NIU | HUI LIAN
NOJIMA | MIYUKI
NOWOWIEJSKI | DANA | LEA.
NUTIU | RAZVAN
OH | YOUNG RAN
OLENIC | NANCY | ANN.
OLENIC | RONALD | WAYNE.
OMALLEY | MARY | ELIZABETH R.
OSULLIVAN | LORNA | MARY.
OSULLIVAN | PATRICK | MICHAEL.
OZTURK | ERDINC
PAGE | CAROLA | FRIEDBURGA.
PAM | LILIAN | AUDREY.
PARK | JOUNG CHUL
PATEL | KARTICK | ATULBHAI.
PEAT | ROBERT | DOUGLAS.
PEIRSON | RICHARD | JOHN.
PENG | HAIBING
PETERSEN | SHERRY | LEE.
PETERSEN | LARS | WEXOE.
PETIT | NICOLAS | PHILIPPE.
PETRASEK | ANNE | FRANCES.
PICATOSTE | FERNANDO | DANIEL.
PIGULA | LYLE | PETER.
POIRIER | JOSEE
POLICKER | SHAI
POLLACK | GAVIN | HUGO.
POLLET | STEPHANIE | CLAIRE.
POLOSUKHIN | ILLIA
POMERANTZ | DANIEL | JEREMY.
PRASKEY | DENISE | ANN.
PRATT | SUSAN | S.
PRESCOTT | DAVID | STARR.
PUNGENTE | MARA
PYTHON | GISELE | ALBRECHT.
QI | LI
QIAN | LIHUI
RAICHURA | JULIE | B.
RAPOPORT | ALEXANDER
REID | WILLIAM | STEPHEN.
REID | KEITH | STUART BRIAN.
RIDDING | ROBERT | DAVID PAUL.
RIDER | BEVERLEY | ANNE.
RIEDL | AKIYO
RIGHETTI | MARCO | CESARE.
RIPPENHAGEN | MYLES | STACY.
ROBINSON | GLENDA | EVELYN.
ROBINSON | PETER | GERAD.
ROBINSON | MARIE | THERESE.
ROBINSON | MADELYN | JEAN.
ROLLE | BARBARA | FRANZISKA.
ROSENBLATT | JASON | MICHAEL.
ROSKIES | AMALIA
ROSS | JOHN | WESLEY.
ROSSMANITH | MATTHIAS | PETER.
ROSTECK | DOMINIQUE | MIRIAM.
ROUSSEEUW | PETER
ROY | ROBERT | GIRARD.
ROY | ANNE | MARIE MARIE.
RUSH | SIMON | PAUL.
RUSH | CHRISTY | CATHEEN.
RYLAND | RONALD | RAY.
RYPPA | XAVER | ROMUALD.
SANCHEZ | JEREMIE | ANTOINE.
SANDERSON | BARBARA | LYNN.
SAUTEROT | SIMONE | PATRICIA.
SAWCHUK | JOAN | COLLEEN.
SAWYER | THOMAS | JOHN.
SCHEYER | SHANNON | ASHLEY.
SCHIEBEL | ROLAND
SCHMEISTER | NANCY | EVA.
SCHMEISTER | THOMAS | ALLAN.
SCHRUM | LARRY | LAMONT.
SCHWERDTFEGER | ULRIKE | AMY.
SCOTTEN | SHAE | MICHAEL.
SEMPLE | ANDREW | SCOTT.
SENGA | CHIYORI
SEQUEIRA | KYOKO | YOSHIDA.
SETT | MERRILEE | JEANNE.
SHAW PEIRSON | CAROL | ANNE.
SHEFSIEK | DAVID | KARL.
SHELTON | SCOTT | JAMES.
SHERPA | GAMBU
SHIACH | PATRICIA | JOY.
SIM | DAVID | FORBES.
SIMPSON | ROBERT | NEIL.
SMEEKES | MIRJAM | ANNA CATHARINA.
SMITH | IAN | DAVID.
SMITH | MALCOLM | H.
SON | WOO | SEONG.
SOOD | SUSHEEL | KUMAR.
SORDO | ANA | PAULA.
SPAELTI | LUDWIG | FRITZ.
SPERANZA | KIMBERLY | DAWN.
SPROULE | JULIAN | ST GEORGE.
SQUILLANTE | ALBERTO
STAUB | RENE
STEENSTRUP | ANNE | MARGRETHE.
STEENSTRUP | JENS | RESEN.
STIEBEN | DANNY | BRIAN.
STOLZ | CHRISTIAN
SU | GUIYING | CHING.
SUTHERLAND | LINDA | KAY.
TAI | ALBERT | HUA.
TAKAO | YOSHIE
TAMERIN | RON | SHAY.
TANG | XIANGLUN
TAYLOR | SHARON | A.
TESHIMA | TATSUHISA
TESHIMA | TOMOKO
THAPER | AMIT
THARIN | OLIVER | CAMILLE.
THERIAULT | WILMON | W.
THOMA | CATHARINA | GEERTRUIDA SUZANNA.
THOMPSON | KIURSTAN | ANNE.
THOMPSON | ZOE | HELEN.
THUT | DIMITRI | LIAM.
TOH | KEITH | HSIANG WEN.
TOLONE | DAVID | MICHAEL.
TOPP | HELEN | MARGARET.
TOTIK | VILMOS
TOWELL | ANTHONY | P.
TRAINER | RANDALL | MARK.
TRICOT | MARIE | RAFAELE COLETTE.
TRONOLONE | CHARLES | MICHAEL.
TRUMAN | CHARLES | MICHAEL.
TRUMAN | SUSAN | JANE.
TSAI | I | CHEN.
UEN | NAZIRE
UJIKE | TAKANORI
ULMER | JENNIFER | COLEEN.
UNGERMAN | ZACHARIAH | JONAS.
VAN ARK | CHATREE
VAN ARK | HUBERTUS | HERMAN.
VAN BENTUM | OTTO ADRIANUS MARIA
VAN DER KAMP | CHRISTINA | MAGDALENE.
VAN DOORN | YVO | M.
VAN ERVEN | SYBELLE | BIRGITTA EIRENE.
VAN GELDER | MARLA | ANN.
VAN HILTEN | NICHOLAS
VAN HOYE | ERMINA
VAN NIEKERK | PIETER | ANDRIES.
VAN TONDER | GAVIN | JOHN.
VASCONCELLOS | JULIO | CESAR.
VELINOVA-LEVAK | GERGANA | VESSELINOVA.
VICAT-BLANC | JEROME | DANIEL.
VOELMAN | EGBERT | HARMEN JACOB.
VOHRA | ANITA
VOITENLEITNER | CHRISTIAN | ALFONS.
VOUTAS | SAMUEL | A.
WAHL | FRANKLIN | CLAUDE.
WALKER | TIMOTHY | C.
WALRAF | PATRICIA | MARIE LOUISE.
WALTER | MICHAEL | ST GEORGE.
WARING | IAN | ANTONY.
WARNER | ERIN | KIMBERLY.
WARRICK | DANIEL | JOSEPH.
WARRINER | MARIAH | RUTH FOSSGREEN.
WARRINER | MCKENZIE | ELIZABETH FOSSGREEN.
WASSEN | JEAN | MARC ALBERT.
WATANABE | MEGURU
WATTS | JEANNIE
WAYRETHMAYR | DANIEL | TOSHIHIKO.
WEATHERLY | WILLIAM | BOLLIN.
WEBB | STEVEN | ROBERT.
WEBB | JOHN | PATRICK.
WEBER | TAIYO | CHRISTIAN.
WEIBEL | ANNELISE
WELLS | HEATH | JAMES.
WHITEHOUSE | MICHELLE
WHITTAKER | SUSAN | ANNE.
WILCZEWSKA CLAIRET | MARIA | J.
WILHITE | MATTHEW | OWEN.
WILKINSON | EMMA | CATHERINE.
WILL | DEBORAH | LEE.
WILLACY | CHRISTOPHER | N.
WILLIAMS | DANE | WOODGATE.
WILLIAMS | ROBERT | DAHL.
WILLIAMS | SHARON | KAY.
WILLIAMS | LINDA | KAY.
WILSON | PAULA | BOYCE.
WILSON | ERIC | BRYCE.
WILSON | LESLIE | CAROL.
WILSON (CROFT) | VICTORIA | JOSCELYN.
WISEMAN | ZAVIE | PHILIP.
WOLF | PAUL | CARVER.
WOLFE | WILLIAM | JOSEPH JOHN.
WOLFE | HARRISON | ROBERTS.
WOLSKE | ANDREW | THOMAS.
WOODMAN | STEPHEN | T.
WRIGHT | SHIRLEY | GALE.
WUENDERLING | ALEXANDRA
WUNDERWALD | SILKE | SOFIE.
WUSSING | URSULA | SOPHIE DORA.
XIN | FANG
XU | YI
YANAGAWA | MUTSUKO | YANAGAWA.
YANG | CHIA-JUNG
YANG | XIAO | LING.
YAO | SHU
YEN | PAU | YONG.
YOSHIDA | SATORI
YOSHINO | MICHAEL | Y.
YU | JIALI
ZACCAGNINI | MARTA | GRACE.
ZAKHER | BERNADETTE
ZHAI | LIHONG
ZHANG | KUN
ZHANG | WEIYANG | T.
ZHAO | HUANGLUNNAN
ZHOU | RENQIU

Dated: April 14, 2023.
Steven B. Levine,
Manager, Team 1940, CSDC—Compliance Support, Development & Communications, LB&I:WEIIC:IIC:T4.

[FR Doc. 2023-08262 Filed 4-18-23; 8:45 am]

BILLING CODE 4830-01-P